DEPARTMENT OF DEFENSE

Department of the Navy

Meeting of the Ocean Research Advisory Panel

AGENCY: Department of the Navy, DoD.

ACTION: Notice of open meeting.

SUMMARY: The Ocean Research Advisory Panel will hold a regularly scheduled meeting. The meeting will be open to the public.

DATES: The meeting will be held on Monday, January 14, 2013 from 9:00 a.m. to 5:15 p.m. and Wednesday, January 16, 2013 from 9:00 a.m. to 12:10 p.m. The agenda can be found at http://www.nopp.org/committees/orap/orap_meetings/. At the conclusion of the meeting there will be a 15 minute open forum for public commentary.

ADDRESSES: The meeting will be held at the Consortium for Ocean Leadership, 1201 New York Avenue NW., 4th Floor, Washington DC 2005.

FOR FURTHER INFORMATION CONTACT: Dr. Joan S. Cleveland, Office of Naval Research, 875 North Randolph Street Suite 1425, Arlington, VA 22203-1995, telephone 703-696-4532.

SUPPLEMENTARY INFORMATION: This notice of open meeting is provided in accordance with the Federal Advisory Committee Act (5 U.S.C. App. 2). The meeting will include discussions on ocean research, resource management, and other current issues in the ocean science and management communities.

Dated: November 29, 2012.
L.R. Almand,
Judge Advocate General's Corps, U.S. Navy, Alternate Federal Register Liaison Officer.

[FR Doc. 2012-29468 Filed 12-5-12; 8:45 am]

BILLING CODE 3810-FF-P